DEPARTMENT OF TRANSPORTATION

Federal Aviation Administration

Aviation Rulemaking Advisory Committee Meeting on Air Carrier Operations

AGENCY: Federal Aviation Administration (FAA) DOT.

ACTION: Notice of meeting.

SUMMARY: The FAA is issuing this notice to advise the public of a meeting of the Federal Aviation Administration Aviation Rulemaking Advisory Committee to discuss air carrier operations issues.

DATES: The meeting will be held on December 13, 2000, at 10:00 a.m.

ADDRESSES: The meeting will be held in Conference Room 827, Federal Office Building 10A (the “FAA Building”), 800 Independence Ave., SW., Washington, DC 20591.

FOR FURTHER INFORMATION CONTACT: Linda Williams, Office of Rulemaking, 800 Independence Avenue, SW., Washington, DC 20591, telephone (202) 267-9685.

SUPPLEMENTARY INFORMATION: Pursuant to section 10(a)(2) of the Federal Advisory Committee Act (Pub. L. 92-463, 5 U.S.C. App. II), notice is hereby given of a meeting of the Aviation Rulemaking Advisory Committee on Air Carrier Operations to be held on December 13, 2000.

The agenda will include:

• Airplane Performance Working Group status report.

• Extended Range Operations with Two-Engine Aircraft (ETOPS) Working (ETOPS) Working Group status report.

• Consideration of a proposed task to review proposed Advisory Circular 120-29A, Criteria for Approval of Nonprecision, Category I and Category II Weather Minima for Takeoff, Approach and Landing and all associated comments received during the public comment period.

Attendance is open to the interested public but may be limited by the space available. Members of the public must make arrangements in advance to present oral statements at the meeting or may present written statements to the committee at any time. Arrangements may be made by contacting the person listed under the heading FOR FURTHER INFORMATION CONTACT.

Sign and oral interpretation can be made available at the meeting, as well as an assistive listening device, if requested 10 calendar days before the meeting.

If you are in need of assistance or require a reasonable accommodation for this event, please contact the person listed under FOR FURTHER INFORMATION CONTACT.

Issued in Washington, DC, on November 27, 2000.
Gregory L. Michael,
Assistant Executive Director for Air Carrier Operations, Aviation Rulemaking Advisory Committee.

[FR Doc. 00-30494 Filed 11-28-00; 8:45 am]

BILLING CODE 4910-13-M